DEPARTMENT OF JUSTICE

Notice of Lodging of Consent Decree Under the Clean Water Act

Notice is hereby given that on June 2, 2010, a proposed Consent Decree (the “Decree”) in United States v. State of Alaska, Department of Transportation and Public Facilities, Civil Case No. 3:10-cv-00115-JWS, was lodged with the United States District Court for the District of Alaska.

In a complaint filed on the same day, the United States alleged that the State of Alaska Department of Transportation and Public Facilities (“Alaska DOTPF”) was liable, pursuant to Section 309(b) and (d) of the Clean Water Act, 33 U.S.C. 1319(b) and (d), for civil penalties and injunctive relief for discharging fill material without a permit at eleven sites on the Kenai Peninsula during the fall of 2002, in violation of Section 404 of the Act, 33 U.S.C. 1344. The complaint also alleged that Alaska DOTPF violated the Act's requirements governing the discharge of storm water at three road and bridge construction sites during the summers of 2005 and 2006, in violation of Section 402 of the Act, 33 U.S.C. 1342.

Pursuant to the Decree, Alaska DOTPF will (1) pay a civil penalty of $140,000; (2) pay $850,000 in mitigation to acquire and protect valuable riparian areas; (3) revegetate three sites at which unpermitted fill was discharged; and (4) undertake various actions to increase the training of its employees and increase the nature and quality of its efforts to inspect for and comply with storm water regulations.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to United States v. State of Alaska Department of Transportation and Public Facilities, D.J. Ref. 90-5-1-1-08977.

During the public comment period, the Decree may be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.75 (25 cents per page reproduction cost) payable to the U.S. Treasury or, if by e-mail or fax, forward a check in that amount to the Consent Decree Library at the stated address.

Maureen Katz,
Assistant Section Chief, Environmental Enforcement Section, Environment and Natural Resources Division.

[FR Doc. 2010-14811 Filed 6-18-10; 8:45 am]

BILLING CODE 4410-15-P